DEPARTMENT OF ENERGY

Federal Energy Regulatory Commission

Combined Notice of Filings # 1

Take notice that the Commission received the following electric rate filings:

Docket Numbers: ER12-1739-007.

Applicants: Bethel Wind Energy LLC.

Description: Notice of Non-Material Change in Status of Bethel Wind Energy LLC.

Filed Date: 3/20/24.

Accession Number: 20240320-5222.

Comment Date: 5 p.m. ET 4/10/24.

Docket Numbers: ER17-2011-002; ER22-1703-004.

Applicants: Salem Harbor Power Development LP, Castleton Commodities Merchant Trading L.P.

Description: Supplement to July 28, 2023 Notice of Change in Status of Salem Harbor Power Development LP, et al.

Filed Date: 3/20/24.

Accession Number: 20240320-5221.

Comment Date: 5 p.m. ET 4/10/24.

Docket Numbers: ER20-1505-007.

Applicants: Basin Electric Power Cooperative.

Description: Notice of Change in Status of Basin Electric Power Cooperative.

Filed Date: 3/22/24.

Accession Number: 20240322-5214.

Comment Date: 5 p.m. ET 4/12/24.

Docket Numbers: ER24-596-002.

Applicants: PJM Interconnection, L.L.C.

Description: Tariff Amendment: Amendment to Filing, WMPA SA No. 5981; Queue No. AG1-386 to be effective 2/6/2024.

Filed Date: 3/22/24.

Accession Number: 20240322-5058.

Comment Date: 5 p.m. ET 4/12/24.

Docket Numbers: ER24-761-001.

Applicants: Alabama Power Company, Georgia Power Company, Mississippi Power Company.

Description: Tariff Amendment: Alabama Power Company submits tariff filing per 35.17(b): Wilsonville Solar LGIA Deficiency Response to be effective 12/15/2023.

Filed Date: 3/22/24.

Accession Number: 20240322-5125.

Comment Date: 5 p.m. ET 4/12/24.

Docket Numbers: ER24-1158-001.

Applicants: Entergy Arkansas, LLC.

Description: Tariff Amendment: Entergy MSS-4 Decom Update to be effective 4/1/2024.

Filed Date: 3/22/24.

Accession Number: 20240322-5120.

Comment Date: 5 p.m. ET 4/12/24.

Docket Numbers: ER24-1591-000.

Applicants: Flatland Storage LLC.

Description: Baseline eTariff Filing: Market-Based Rate Application and Request for Expedited Action to be effective 3/22/2024.

Filed Date: 3/21/24.

Accession Number: 20240321-5261.

Comment Date: 5 p.m. ET 4/11/24.

Docket Numbers: ER24-1593-000.

Applicants: Randolph Solar Park LLC.

Description: Baseline eTariff Filing: Market-Based Rate Application and Request for Expedited Action to be effective 3/22/2024.

Filed Date: 3/21/24.

Accession Number: 20240321-5266.

Comment Date: 5 p.m. ET 4/11/24.

Docket Numbers: ER24-1594-000.

Applicants: Wisconsin Public Service Corporation.

Description: § 205(d) Rate Filing: Annual Formula Rate Update for PEB and PBOP Changes in W-1A Tariff and RS No. 87 to be effective 4/1/2024.

Filed Date: 3/22/24.

Accession Number: 20240322-5035.

Comment Date: 5 p.m. ET 4/12/24.

Docket Numbers: ER24-1595-000.

Applicants: PacifiCorp.

Description: § 205(d) Rate Filing: OATT Revised Attachment H-1—Appendix A, Summary of Rates, Attachments 3, 5 and to be effective 5/22/2024.

Filed Date: 3/22/24.

Accession Number: 20240322-5083.

Comment Date: 5 p.m. ET 4/12/24.

Docket Numbers: ER24-1596-000.

Applicants: PacifiCorp.

Description: Tariff Amendment: Termination of Foote Creek III Wholesale Distribution Service Agreement to be effective 5/22/2024.

Filed Date: 3/22/24.

Accession Number: 20240322-5112.

Comment Date: 5 p.m. ET 4/12/24.

Docket Numbers: ER24-1597-000.

Applicants: Harvest Gold Solar Power, LLC.

Description: Baseline eTariff Filing: Petition for Blanket MBR Authorization with Waivers & Expedited Treatment to be effective 3/25/2024.

Filed Date: 3/22/24.

Accession Number: 20240322-5121.

Comment Date: 5 p.m. ET 4/12/24.

Docket Numbers: ER24-1598-000.

Applicants: Alabama Power Company, Georgia Power Company, Mississippi Power Company.

Description: § 205(d) Rate Filing: Alabama Power Company submits tariff filing per 35.13(a)(2)(iii: GTC NITSA Filing to be effective 12/1/2023.

Filed Date: 3/22/24.

Accession Number: 20240322-5126.

Comment Date: 5 p.m. ET 4/12/24.

Docket Numbers: ER24-1599-000.

Applicants: PJM Interconnection, L.L.C.

Description: § 205(d) Rate Filing: Original NSA, Service Agreement No. 7204; AE1-163/AE2-281 to be effective 5/22/2024.

Filed Date: 3/22/24.

Accession Number: 20240322-5128.

Comment Date: 5 p.m. ET 4/12/24.

Docket Numbers: ER24-1600-000.

Applicants: Midcontinent Independent System Operator, Inc.

Description: § 205(d) Rate Filing: 2024-03-22_SA 3592 Termination of ATC-Wood County Solar Sub E&P (J986) to be effective 3/23/2024.

Filed Date: 3/22/24.

Accession Number: 20240322-5131.

Comment Date: 5 p.m. ET 4/12/24.

Docket Numbers: ER24-1601-000.

Applicants: Pacific Gas and Electric Company.

Description: § 205(d) Rate Filing: End-User Customer Refund Balancing Account Adjustment (ECRBAA) Revision to be effective 7/1/2024.

Filed Date: 3/22/24.

Accession Number: 20240322-5132.

Comment Date: 5 p.m. ET 4/12/24.

Docket Numbers: ER24-1602-000.

Applicants: Midcontinent Independent System Operator, Inc., American Transmission Company LLC.

Description: § 205(d) Rate Filing: Midcontinent Independent System Operator, Inc. submits tariff filing per 35.13(a)(2)(iii: 2024-03-22_SA 4265 ATC-Plymouth ESA to be effective 5/22/2024.

Filed Date: 3/22/24.

Accession Number: 20240322-5158.

Comment Date: 5 p.m. ET 4/12/24.

Docket Numbers: ER24-1603-000.

Applicants: PJM Interconnection, L.L.C.

Description: § 205(d) Rate Filing: NSA, Service Agreement No. 7205; AE2-072 to be effective 5/22/2024.

Filed Date: 3/22/24.

Accession Number: 20240322-5168.

Comment Date: 5 p.m. ET 4/12/24.

Docket Numbers: ER24-1604-000.

Applicants: PJM Interconnection, L.L.C.

Description: Tariff Amendment: Notice of Cancellation of SA No. 6241; AE2-303 to be effective 5/22/2024.

Filed Date: 3/22/24.

Accession Number: 20240322-5185.

Comment Date: 5 p.m. ET 4/12/24.

Docket Numbers: ER24-1605-000.

Applicants: Strauss Wind, LLC.

Description: Compliance filing: Compliance filing 2024 to be effective 3/23/2024.

Filed Date: 3/22/24.

Accession Number: 20240322-5189.

Comment Date: 5 p.m. ET 4/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 22, 2024.
Debbie-Anne A. Reese,
Acting Secretary.

[FR Doc. 2024-06640 Filed 3-27-24; 8:45 am]

BILLING CODE 6717-01-P